DEPARTMENT OF TRANSPORTATION

National Highway Traffic Safety Administration

[Docket No. NHTSA-2010-0016]

Highway Safety Programs; Conforming Products List of Evidential Breath Alcohol Measurement Devices

AGENCY: National Highway Traffic Safety Administration, DOT.

ACTION: Notice.

SUMMARY: This notice updates the Conforming Products List (CPL) published in the Federal Register on December 17, 2007 (72 FR 71480) for instruments that conform to the Model Specifications for Evidential Breath Alcohol Measurement Devices (58 FR 48705).

DATES: Effective Date: March 11, 2010.

FOR FURTHER INFORMATION CONTACT: For technical issues: Ms. De Carlo Ciccel, Behavioral Research Division, NTI-131, National Highway Traffic Safety Administration, 1200 New Jersey Avenue, SE., Washington, DC 20590; Telephone; (202) 366-1694. For legal issues: Mr. David Bonelli, Office of Chief Counsel, NCC-113, National Highway Traffic Safety Administration, 1200 New Jersey Avenue, SE., Washington, DC 20590; Telephone: (202) 366-5834.

SUPPLEMENTARY INFORMATION: On November 5, 1973, the National Highway Traffic Safety Administration (NHTSA) published the Standards for Devices to Measure Breath Alcohol (38 FR 30459). A Qualified Products List of Evidential Breath Measurement Devices comprised of instruments that met this standard was first issued on November 21, 1974 (39 FR 41399).

On December 14, 1984 (49 FR 48854), NHTSA converted this standard to Model Specifications for Evidential Breath Testing Devices (Model Specifications), and published a Conforming Products List (CPL) of instruments that were found to conform to the Model Specifications as Appendix D to that notice.

On September 17, 1993, NHTSA published a notice to amend the Model Specifications (58 FR 48705) and to update the CPL. That notice changed the alcohol concentration levels at which instruments are evaluated, from 0.000, 0.050, 0.101, and 0.151 BAC, to 0.000, 0.020, 0.040, 0.080, and 0.160 BAC, respectively. These devices are identified on the CPL with an asterisk. Additionally, that notice includes a test for the presence of acetone and an expanded definition of alcohol to include other low molecular weight alcohols e.g., methyl or isopropyl. Thereafter, NHTSA has periodically updated the CPL with those breath instruments found to conform to the Model Specifications. The most recent update to the CPL was published December 17, 2007 (72 FR 71480).

The CPL published today adds four (4) new instruments and updates the mobility status of one (1) existing instrument that have been evaluated and found to conform to the Model Specifications, as amended on September 17, 1993, for mobile and non-mobile use. This update also makes minor changes to instrument names and a change to a company location. In alphabetical order by company, they are:

(1) The “Alcotest 7510” manufactured by Draeger Safety, Inc., Irving, Texas. This is a hand-held instrument intended for use in stationary or roadside operations. It uses a fuel cell detector and is battery powered.

(2) The “Alcotest 9510” manufactured by Draeger Safety, Inc., Irving, Texas. This instrument previously conformed to the model specifications and was listed as a stationary device. After further testing, this instrument conforms to the specifications for stationary or roadside operations. This instrument is portable with a detachable carrying handle. It can be powered by either 110 volts AC or 12 volts DC, such as from a car battery. The Alcotest 9510 uses fuel cell and infra-red type sensors.

(3) The “Alco-Sensor V” manufactured by Intoximeters, Inc., St. Louis, Missouri. This is a hand-held instrument intended for use in stationary or roadside operations. It uses a fuel cell detector and is battery powered.

(4) The “Evidenzer” manufactured by Nanopuls AB, Uppsala, Sweden. This instrument is intended for use in stationary or roadside operations. The Evidenzer is a non-dispersive infra-red device that is powered by either 120 volts AC power or 12 volts DC, such as from a car battery.

(5) The “Mark V Alcovisor” manufactured by PAS International, Fredericksburg, Virginia. This is a hand-held instrument that uses a fuel cell detector and is battery powered.

Minor changes include adding “Intox” before or in the name of EC/IR instruments by Intoximeters. Draeger Safety, Inc. address changed from Durango, Colorado to Irving, Texas.

The CPL has been updated to include the five instruments and the minor changes identified above.

In accordance with the foregoing, the CPL is therefore updated, as set forth below.

Conforming Products List of Evidential Breath Measurement Devices
Manufacturer and model | Mobile | Nonmobile
Alcohol Countermeasure Systems Corp., Mississauga, Ontario, Canada:
Alert J3AD * | X | X
Alert J4X.ec | X | X
PBA3000C | X | X
BAC Systems, Inc., Ontario, Canada:
Breath Analysis Computer * | X | X
CAMEC Ltd., North Shields, Tyne and Ware, England:
IR Breath Analyzer * | X | X
CMI, Inc., Owensboro, Kentucky:
Intoxilyzer Model:
200 | X | X
200D | X | X
240 (aka: Lion Alcolmeter 400+ outside the U.S.) | X | X
300 | X | X
400 | X | X
400PA | X | X
1400 | X | X
4011 * | X | X
4011A * | X | X
4011AS * | X | X
4011AS-A * | X | X
4011AS-AQ * | X | X
4011 AW * | X | X
4011A27-10100 * | X | X
4011A27-10100 with filter * | X | X
5000 | X | X
5000 (w/Cal. Vapor Re-Circ.) | X | X
5000 (w/3/8″ ID Hose option) | X | X
5000CD | X | X
5000CD/FG5 | X | X
5000EN | X | X
5000 (CAL DOJ) | X | X
5000VA | X | X
8000 | X | X
PAC 1200 * | X | X
S-D2 | X | X
S-D5 (aka: Lion Alcolmeter SD-5 outside the U.S.) | X | X
Draeger Safety, Inc. (aka: National Draeger) Irving, Texas:
Alcotest Model:
6510 | X | X
6810 | X | X
7010 * | X | X
7110 * | X | X
7110 MKIII | X | X
7110 MKIII-C | X | X
7410 | X | X
7410 Plus | X | X
7510 | X | X
9510 | X | X
Breathalyzer Model:
900 | X | X
900A * | X | X
900BG * | X | X
7410 | X | X
7410-II | X | X
EnviteC by Honeywell GmbH, Fond du Lac, Wisconsin:
AlcoQuant 6020 | X | X
Gall's Inc., Lexington, Kentucky:
Alcohol Detection System-A.D.S. 500 | X | X
Guth Laboratories, Inc., Harrisburg, Pennsylvania:
Alcotector BAC-100 | X | X
Alcotector C2H5OH | X | X
Intoximeters, Inc., St. Louis, Missouri:
Photo Electric Intoximeter * |  | X
GC Intoximeter MK II * | X | X
GC Intoximeter MK IV * | X | X
Auto Intoximeter * | X | X
Intoximeter Model:
3000 | X | X
3000 (rev B1) * | X | X
3000 (rev B2) * | X | X
3000 (rev B2A) * | X | X
3000 (rev B2A) w/FM option * | X | X
3000 (Fuel Cell) * | X | X
3000 D * | X | X
3000 DFC * | X | X
Alcomonitor |  | X
Alcomonitor CC | X | X
Alco-Sensor III | X | X
Alco-Sensor III (Enhanced with Serial Numbers above 1,200,000) | X | X
Alco-Sensor IV | X | X
Alco-Sensor IV XL | X | X
Alco-Sensor V | X | X
Alco-Sensor AZ | X | X
Alco-Sensor FST | X | X
Intox EC/IR | X | X
Intox EC/IR II | X | X
Intox EC/IR II (Enhanced with serial number 10,000 or higher) |  | X
Portable Intox EC/IR | X | X
RBT-AZ | X | X
RBT-III | X | X
RBT III-A | X | X
RBT IV | X | X
RBT IV with CEM (cell enhancement module) | X | X
Komyo Kitagawa, Kogyo, K.K., Japan:
Alcolyzer DPA-2 * | X | X
Breath Alcohol Meter PAM 101B * | X | X
Lifeloc Technologies, Inc., (formerly Lifeloc, Inc.), Wheat Ridge, Colorado:
PBA 3000B | X | X
PBA 3000-P * | X | X
PBA 3000C | X | X
Alcohol Data Sensor | X | X
Phoenix | X | X
Phoenix 6.0 | X | X
EV 30 | X | X
FC 10 | X | X
FC 20 | X | X
Lion Laboratories, Ltd., Cardiff, Wales, United Kingdom:
Alcolmeter Model:
300 | X | X
400 | X | X
400+ (aka: Intoxilyzer 240 in the U.S.) | X | X
SD-2 * | X | X
SD-5 (aka: S-D5 in the U.S.) | X | X
EBA * | X | X
Intoxilyzer Model:
200 | X | X
200D | X | X
1400 | X | X
5000 CD/FG5 | X | X
5000 EN | X | X
Luckey Laboratories, San Bernardino, California:
Alco-Analyzer Model:
1000 * |  | X
2000 * |  | X
Nanopuls AB, Uppsala, Sweden:
Evidenzer | X | X
National Patent Analytical Systems, Inc., Mansfield, Ohio:
BAC DataMaster (with or without the Delta-1 accessory)
BAC Verifier DataMaster (w/or without the Delta-1 accessory) | X | X
DataMaster cdm (w/or without the Delta-1 accessory) | X | X
DataMaster DMT | X | X
Omicron Systems, Palo Alto, California:
Intoxilyzer Model:
4011 * | X | X
4011AW * | X | X
PAS International, Fredericksburg, Virginia
Mark V. Alcovisor | X | X
Plus 4 Engineering, Minturn, Colorado:
5000 Plus 4 * | X | X
Seres, Paris, France:
Alco Master | X | X
Alcopro | X | X
Siemans-Allis, Cherry Hill, New Jersey:
Alcomat * | X | X
Alcomat F * | X | X
Smith and Wesson Electronics, Springfield, Massachusetts:
Breathalyzer Model:
900 * | X | X
900A * | X | X
1000 * | X | X
2000 * | X | X
2000 (non-Humidity Sensor) * | X | X
Sound-Off, Inc., Hudsonville, Michigan:
AlcoData | X | X
Seres Alco Master | X | X
Seres Alcopro | X | X
Stephenson Corp.:
Breathalyzer 900 * | X | X
Tokai-Denshi Inc., Tokyo, Japan:
ALC-PRO II (US) | X | X
U.S. Alcohol Testing, Inc./Protection Devices, Inc., Rancho Cucamonga, California:
Alco-Analyzer 1000 |  | X
Alco-Analyzer 2000 |  | X
Alco-Analyzer 2100 | X | X
Verax Systems, Inc., Fairport, New York:
BAC Verifier * | X | X
BAC Verifier Datamaster | X | X
BAC Verifier Datamaster II * | X | X
* Instruments marked with an asterisk (*) meet the Model Specifications detailed in 49 FR 48854 (December 14, 1984) (i.e., instruments tested at 0.000, 0.050, 0.101, and 0.151 BAC.) Instruments not marked with an asterisk meet the Model Specifications detailed in 58 FR 48705 (September 17, 1993), and were tested at BACs = 0.000, 0.020, 0.040, 0.080, and 0.160. All instruments that meet the Model Specifications currently in effect (dated September 17, 1993) also meet the Model Specifications for Screening Devices to Measure Alcohol in Bodily Fluids.

(Authority: 23 U.S.C. 403; 49 CFR 1.50; 49 CFR Part 501).

Issued on: March 5, 2010.
Jeffrey P. Michael,
Associate Administrator for Research and Program Development.

[FR Doc. 2010-5242 Filed 3-10-10; 8:45 am]

BILLING CODE 4910-59-P